DEPARTMENT OF LABOR

Employment and Training Administration

Investigations Regarding Certifications of Eligibility to Apply For Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 2, 2000.

Interested persons are invited to submit written comments regarding the subject matter of the investigations to the Director, Division of Trade Adjustment Assistance, at the address shown below, not later than October 2, 2000.

The petitions filed in this case are available for inspection at the Office of the Director, Division of Trade Adjustment Assistance, Employment and Training Administration, U.S. Department of Labor, Room C-5311, 200 Constitution Avenue, N.W., Washington, D.C. 20210.

Signed at Washington, D.C. this 28th of August, 2000.
Edward A. Tomchick,
Director, Division of Trade Adjustment Assistance.

Appendix—Petitions Instituted On 08/28/2000

TA-W | Subject firm (petitioners) | Location | Date of petition | Product(s)
38,001 | Warner's Distribution (Wkrs) | Murfeesoboro, TN | 08/12/2000 | Ladies' intimate apparel.
38,002 | Genlyte Thomas Group (IBEW) | Hopkinsville, KY | 08/01/2000 | Lighting fixtures.
38,003 | Parker Seal Co. (Wkrs) | Berea, KY | 08/11/2000 | O-ring seals.
38,004 | Duluth Engineering (Wkrs) | Duluth, MN | 08/11/2000 | Gearboxes, hoists drums.
38,005 | Maxco Tech Designs (Co.) | Edgewater, NJ | 08/07/2000 | Embroidery.
38,006 | Rohm and Haas Co. (Wkrs) | Philadelphia, PA | 08/09/2000 | Ion exchange resins.
38,007 | Tredegar Corp. (IAM) | Manchester, IA | 07/31/2000 | Embossed diaper backsheet film.
38,008 | Cytec Industries (Wkrs) | Wallingford, CT | 08/18/2000 | Molding compounds.
38,009 | Roseburg Forest Products (Co.) | Roseburg, OR | 08/16/2000 | Ponderosa and sugar pine.
38,010 | Key Tronic Corp. (Co.) | Spokane, WA | 08/04/2000 | Custom keyboards.
38,011 | Santtony Wear LLC (Co.) | Rockingham, NC | 08/08/2000 | Ladies' undergarments.
38,012 | Dunbrooke Sportswear (Wkrs) | Greenfield, MO | 08/14/2000 | Sports jackets.
38,013 | Robert Bosch Corp. (UAW) | Hendersonville, TN | 08/03/2000 | Automobile air moving motors.
38,014 | Bay Club Sportswear (UNITE) | Copiague, NY | 08/15/2000 | Bathing suits—beachwear.
38,015 | Boyt Brands (Co.) | Bedford, IA | 08/11/2000 | Luggage.
38,016 | Leoni Wiring System (Co.) | Tucson, AZ | 08/10/2000 | Cable products.
38,017 | International Paper (Wkrs) | Monticello, AR | 07/21/2000 | Paper and poly bags.
38,018 | Durango Apparel (Wkrs) | New York, NY | 06/30/2000 | Office—jeans, slacks and shorts.
38,019 | West Mill Clothes (UNITE) | Woodside, NY | 08/10/2000 | Men's tuxedo jackets and pants.
38,020 | A.O. Smith Electrical (Co.) | Gordonsville, TN | 08/10/2000 | Electrical motors.
38,021 | Cardinal Shoe Corp (Co.) | Lawrence, MA | 08/08/2000 | Women's dress shoes.
38,022 | Celanese Acetate (UNITE) | Rock Hill, SC | 08/13/2000 | Acetate filament and flake.
38,023 | Martin Mills, Inc. (Co.) | St. Martinville, LA | 08/08/2000 | Tee shirts.
38,024 | Alabama Structural Beams (UNITE) | Gadsden, AL | 08/08/2000 | Light steel I-beams.
38,025 | Jenny Fashions (Co.) | Meriden, CT | 07/25/2000 | Women's apparel.
38,026 | Holocroft, LLC (ISLU) | Livonia, MI | 08/15/2000 | Heat treating furnaces.
38,027 | Great Lakes Chemical (Co.) | Laredo, TX | 08/02/2000 | Antimony oxide.
38,028 | Playtex Apparel (Wkrs) | Newnan, GA | 08/18/2000 | Undergarments.
38,029 | Trus Joist (Wkrs) | Eugene, OR | 08/16/2000 | Veneer.
38,030 | Phoenix Medical Tech. (Wkrs) | Andrews, SC | 08/17/2000 | Disposable rubber and plastic gloves.
38,031 | Wabash Automotive (Wkrs) | Fort Worth, TX | 08/11/2000 | Slip rings and carburators.
38,032 | Harman JBL (Wkrs) | Northridge, CA | 08/09/2000 | Loudspeaker components, cabinets.
38,033 | WTTC, Inc. (Wkrs) | Raymondville, TX | 08/18/2000 | Cut denim material.
38,034 | Lucchese (Wkrs) | El Paso, TX | 08/10/2000 | Boots.
38,035 | Stanley Tools (Wkrs) | Shaftsbury, VT | 08/08/2000 | Levels, chalk and chalklines.
38,036 | Midwest Electric Products (Co.) | Mankato, MN | 08/09/2000 | Weatherproof electrical equipment.
38,037 | AES Interconnects (Wkrs) | San Benito, TX | 07/28/2000 | Wire harnesses.
38,038 | Gulford Mills, Inc (Co.) | Greensboro, NC | 08/07/2000 | Material for sleepwear and dresswear.
38,039 | Tru Stitch Footwear (Co.) | Malone, NY | 08/11/2000 | Soft moccasin and boot style slippers.
38,040 | Reynolds Metals (IAMAW) | Troutdale, OR | 08/18/2000 | Aluminum.
38,041 | Harris Interactive (Wkrs) | Vestal, NY | 08/08/2000 | Market research surveys.
38,042 | EL Footwear, LLC (Co.) | Franklin, TN | 08/22/2000 | Western and work boots.

[FR Doc. 00-24154 Filed 9-19-00; 8:45 am]

BILLING CODE 4510-30-M